DEPARTMENT OF COMMERCE

International Trade Administration

[A-588-046]

Polychloroprene Rubber From Japan: Initiation and Preliminary Results of Changed Circumstances Review, and Intent To Revoke Antidumping Duty Finding, in Part

AGENCY: Import Administration, International Trade Administration, Department of Commerce.

SUMMARY: On August 4, 2008, the Department of Commerce (the Department) received a request from the petitioner, DuPont Performance Elastomers L.L.C. (DPE) ¹ for a changed circumstances review and a request to revoke, in part, the antidumping duty (AD) finding on certain polychloroprene rubber products from Japan. In its August 4, 2008 request, DPE stated that it no longer has any interest in antidumping relief from imports of such polychloroprene rubber with respect to the subject merchandise defined in the “Scope of the Finding” section below. Interested parties are invited to comment on these preliminary results.

¹ DPE is the sole petitioner in this antidumping proceeding. SeePolychloroprene Rubber From Japan: Final Results of the Expedited Sunset Review of the Antidumping Finding. 69 FR 64276 (November 4, 2004), DPE has been the sole U.S. producer of polychloroprene rubber since 1998. when Bayer Group closed its polychloroprene rubber plant in Houston, Texas. See Polychloroprene Rubber from Japan, Inv. No. AA-1921-129 (Second Review), U.S. ITC Pub. 3786 (June 2005), at 4-5.

DATES: Effective Date: September 29, 2008.

FOR FURTHER INFORMATION CONTACT: Summer Avery, AD/CVD Operations, Office 6, Import Administration, International Trade Administration, U.S. Department of Commerce, 14th Street and Constitution Avenue, NW, Washington, D.C. 20230; telephone: (202) 482-4052.

SUPPLEMENTARY INFORMATION:

Background

On December 6, 1973, the Department of the Treasury published, in the Federal Register (38 FR 33593), the AD finding on polychloroprene rubber from Japan.

On September 29, 2006, the Department amended the scope of the AD finding. Polychloroprene Rubber from Japan: Final Changed Circumstances Review and Determination to Revoke Finding in Part, 71 FR 57470 (September 29, 2006). On August 4, 2008, DPE requested revocation, in part, of the AD finding with respect to aqueous dispersions of 2-chlorobutadiene-1,3 homopolymers, where the polymer content of the dispersion is between 55 weight percent and 61 weight percent and the dispersed homopolymer contains less than 10 weight percent of a tetrahydrofuran-insoluble fraction, because DPE stated that it no longer has any interest in antidumping relief from those imports.

Scope of the Finding

Imports covered by this finding are shipments of polychloroprene rubber, an oil resistant synthetic rubber also known as polymerized chlorobutadiene or neoprene, currently classifiable under items 4002.41.00, 4002.49.00, and 4003.00.00 of the Harmonized Tariff Schedule of the United States (HTSUS). HTSUS item numbers are provided for convenience and customs purpose. The Department's written description of the scope remains dispositive.

The following types of polychloroprene rubber from Japan are excluded from the scope of the finding: (1) Aqueous dispersions of polychloroprenes that are dipolymers of chloroprene and methacrylic acid, where the dispersion has a pH of 8 or lower (this category is limited to aqueous dispersions of these polymers and does include aqueous dispersions of these polychloroprenes that contain comonomers other than methacrylic acid); (2) aqueous dispersions of polychloroprenes that are dipolymers of chloroprene and 2,3-dichlorobutadiene-1,3 modified with xanthogen disulfides, where the dispersion has a solids content of greater than 59 percent (this category is limited to aqueous dispersions of these polymers and does include aqueous dispersions of polychloroprenes that contain comonomers other than 2,3-dichlorobutadiene-1,3); and (3) solid polychloroprenes that are dipolymers of chloroprene and2,3-dichlorobutadiene-1,3 having a 2,3-dichlorobutadiene-1,3 content of 15 percent or greater (this category is limited to polychloroprenes in solid form and does include aqueous dispersions).

Initiation and Preliminary Results of Changed Circumstances Review, and Intent To Revoke Antidumping Finding, in Part

Pursuant to section 751(d)(1) of the Tariff Act of 1930, as amended (the Act), the Department may revoke, in whole or in part, an AD finding based on a review under section 751(b) of the Act (i.e., a changed circumstances review). Section 751 (b)(1) of the Act requires a changed circumstances review to be conducted upon receipt of a request which shows changed circumstances sufficient to warrant a review. In conducting a changed circumstances review pursuant to 19 CFR 351.216, the Department may revoke an order, in whole or in part, if it determines that producers accounting for substantially all of the production of the domestic like product to which the order (or the part of the order to be revoked) pertains have expressed a lack of interest in the order, in whole or in part. See section 782(h)(2) of the Act and 19 CFR 351.222(g). In the event that the Department concludes that expedited action is warranted, 19 CFR 351.221(c)(3)(ii) permits the Department to combine the notices of initiation and preliminary results.

In this case, the Department finds that the information submitted by the petitioner provides sufficient evidence of changed circumstances to warrant a review. 19 CFR 351.216(d). DPE is the sole petitioner and domestic producer of polychloroprene rubber, and therefore accounts for all of the production of the domestic like product to which the order pertains.² In addition, DPE affirms that it is no longer interested in the inclusion of the above products within the scope of the AD finding. DPE's August 4, 2008 submission at page 2. Therefore, in accordance with sections 751(b)(1) and 751(d)(1) of the Act, and19 CFR 351.216 and 351.222(g), and based on the information provided by DPE, the Department is initiating a changed circumstances review of polychloroprene rubber from Japan to determine whether partial revocation of the AD finding is warranted with respect to the aforementioned certain polychloroprene rubber products from Japan. Furthermore, in accordance with 19 CFR 351.221(c)(3)(ii), we have determined that expedited action is warranted. Our decision to expedite this review stems from the fact that the sole petitioner and domestic producer of the subject merchandise, DPE, has requested expedited action. Because we have concluded that expedited action is warranted, we are combining the initiation and preliminary results.

² See footnote 1.

Based on the expression of no interest by the sole domestic producer, the Department preliminarily determines that producers accounting for substantially all of the production of the domestic like product have no further interest in the continued application of the AD finding on polychloroprene rubber that is subject to this request. Section 782(h)(2) of the Act. Therefore, we are notifying the public of our intent to revoke, in part, the AD finding as it relates to imports of certain polychloroprene rubber products from Japan.

Accordingly, the Department intends to amend the scope of the AD finding on polychloroprene rubber from Japan to read as follows: Imports covered by this finding are shipments of polychloroprene rubber, an oil resistant synthetic rubber also known as polymerized chlorobutadiene or neoprene, currently classifiable under items 4002.41.00, 4002.49.00, and 4003.00.00 of the Harmonized Tariff Schedule of the United States (HTSUS). HTSUS item numbers are provided for convenience and customs purpose. The Department's written description of the scope remains dispositive.

The following types of polychloroprene rubber from Japan are excluded from the scope of the finding: (1) Aqueous dispersions of polychloroprenes that are dipolymers of chloroprene and methacrylic acid, where the dispersion has a pH of S or lower (this category is limited to aqueous dispersions of these polymers and does pp include aqueous dispersions of these polychloroprenes 4 that contain comonomers other than methacrylic acid); (2) aqueous dispersions of polychloroprenes that are dipolymers of chloroprene and 2,3-dichlorobutadiene-1,3 modified with xanthogen disulfides, where the dispersion has a solids content of greater than 59 percent (this category is limited to aqueous dispersions of these polymers and does include aqueous dispersions of polychloroprenes that contain comonomers other than 2,3-dichlorobutadiene-1,3); and (3) solid polychloroprenes that are dipolymers of chloroprene and 2,3-dichlorobutadiene-1,3 having a 2,3-dichlorobutadiene-1,3 content of 15 percent or greater (this category is limited to polychloroprenes in solid form and does ii include aqueous dispersions).

In addition, the following type of polychloroprene rubber is excluded from the scope of the finding: aqueous dispersions of 2-chlorobutadiene-1,3 homopolymers, where the polymer content of the dispersion is between 55 weight percent and 61 weight percent and the dispersed homopolymer contains less than 10 weight percent of a tetrahydrofuran-insoluble fraction.

Public Comment

Interested parties are invited to comment on these preliminary results. All written comments shall be submitted in accordance with 19 CFR 351.303 and shall be served on all interested parties. Interested parties may submit case briefs and/or written comments no later than 30 days after the date of publication of this notice. 19 CFR 351.309(c)(ii). Rebuttal briefs and rebuttals to written comments, which must be limited to issues raised in such briefs or comments, may be filed no later than 5 days after the time limit for filing the case brief. See 19 CFR 351.309(d). Parties who submit arguments are requested to submit with the argument (1) a statement of the issue, (2) a brief summary of the argument, and (3) a table of authorities. Also, any interested party may request a hearing within 30 days of publication of this notice. See 19 CFR 351.3 10(c). Any hearing, if requested, will be held 44 days after the date of publication of this notice, or the first working day thereafter. Persons interested in attending a hearing should contact the Department for the date and time of the hearing.

Consistent with 19 CFR 35l.216(e), the Department will issue the final results of this changed circumstances review, including the results of its analysis of issues raised in any written comments, no later than 270 days after the date on which this review was initiated, or within 45 days if all parties agree to our preliminary finding. If final partial revocation occurs, we will instruct U.S. Customs and Border Protection to terminate the suspension of liquidation for the merchandise covered by the revocation on the effective date of the notice of revocation and to release any cash deposit or bond. See 19 CFR 35l.222(g)(4). The current requirement for a cash deposit of estimated AD duties on all subject merchandise will continue unless and until it is modified pursuant to the final results of this changed circumstances review.

This notice of initiation is in accordance with sections 751(b)(1) and 777(i) of the Act and 19 CFR 351.216, 351.221, and 351.222.

Dated: September 18, 2008.
David M. Spooner,
Assistant Secretary for Import Administration.

[FR Doc. E8-22458 Filed 9-26-08; 8:45 am]

BILLING CODE 3510-DS-M